DEPARTMENT OF STATE

22 CFR Part 41

[Public Notice 4078]

Visas: Passports and Visas Not Required for Certain Nonimmigrants—Visa Waiver Program

AGENCY: Department of State, Bureau of Consular Affairs.

ACTION: Final rule; correction.

SUMMARY: On May 7, 2002, the Department of State published in the Federal Register [see 67 FR 30546], a document which removed the list of countries designated to participate in the Visa Waiver Program. The rule also amended the regulation by replacing “Visa Waiver Pilot Program” with “Visa Waiver Program” since the program is no longer a pilot program. The Department is publishing this rule to correct an error in this document.

DATES: Effective on August 2, 2002.

FOR FURTHER INFORMATION CONTACT: Pam Chavez, Legislation and Regulations Division, Visa Office, Room L624, SA-1, Department of State 20520-0106, 202-663-1206, or e-mail chavezpr@state.gov.

SUPPLEMENTARY INFORMATION: On May 7, 2002, the Department published a final rule document amending the regulations at 22 CFR 41.2(l). The document contained an error in the last line of the regulation making reference to part 40 rather than part 41.

Correction

In the Federal Register issue of May 7, 2002, on page 30547, in the last line of § 41.2(l)(2), correct “part 40” to read “part 41.

Dated: July 8, 2002.
Mary A. Ryan,
Assistant Secretary for Consular Affairs, Department of State.

[FR Doc. 02-19540 Filed 8-1-02; 8:45 am]

BILLING CODE 4710-06-P